DEPARTMENT OF DEFENSE

Office of the Secretary

32 CFR Part 285

[Docket ID: DOD-2017-OS-0028]

RIN 0790-AI51

DoD Freedom of Information Act (FOIA) Program

AGENCY: Office of the Secretary, DoD.

ACTION: Final rule.

SUMMARY: This final rule removes one of the Department's two DoD-level regulations concerning the implementation of and assignment of responsibilities for the DoD Freedom of Information Act (FOIA) program. Any content required to be in an agency's FOIA rule from this part was incorporated into the Department's other DoD-level regulation concerning the DoD FOIA program, which was recently revised and for which a final rule published on February 6, 2018. Therefore, this part can now be removed from the CFR.

Additionally, the revised DoD-level FOIA rule now includes DoD component FOIA program information, which eliminated the requirement for component supplementary rules. Accordingly, all of the department's necessary FOIA public guidance has been incorporated into a single part.

DATES: This rule is effective on April 25, 2018.

FOR FURTHER INFORMATION CONTACT: James Hogan at 571-372-0462.

SUPPLEMENTARY INFORMATION: It has been determined that publication of this CFR part removal for public comment is impracticable, unnecessary, and contrary to public interest because any public-facing guidance from this part was incorporated into another CFR part for which public comment has already been taken. Any internal guidance from this part will continue to be published in DoD Directive 5400.07 available at http://www.esd.whs.mil/Portals/54/Documents/DD/issuances/dodd/540007p.pdf.

With the finalization of the DoD-level FOIA rule at 32 CFR part 286, the Department is eliminating the need for this separate DoD-level FOIA rule and reducing costs to the public as explained in the preamble of the revised DoD-level FOIA rule at 32 CFR part 286 published at 83 FR 5196-5197.

This rule is not significant under Executive Order (E.O.) 12866, “Regulatory Planning and Review,” therefore, E.O. 13771, “Reducing Regulation and Controlling Regulatory Costs” does not apply.

List of Subjects in 32 CFR Part 285

Freedom of information.

PART 285—[REMOVED]

Accordingly, by the authority of 5 U.S.C. 301, 32 CFR part 285 is removed.

Dated: April 20, 2018.
Aaron T. Siegel,
Alternate OSD Federal Register Liaison Officer, Department of Defense.

[FR Doc. 2018-08663 Filed 4-24-18; 8:45 am]

BILLING CODE 5001-06-P